DEPARTMENT OF COMMERCE

National Oceanic and Atmospheric Administration

RIN 0648-XX81

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 3-day Atlantic Highly Migratory Species (HMS) Advisory Panel (AP) meeting in September 2010. The intent of the meeting is to consider options for the conservation and management of Atlantic HMS. The meeting is open to the public.

DATES: The AP meeting will be held on September 21, 2010 through September 23, 2010.

ADDRESSES: The meeting will be held in Silver Spring, MD 20910.

FOR FURTHER INFORMATION CONTACT: Brian Parker or Margo Schulze-Haugen at 301-713-2347.

SUPPLEMENTARY INFORMATION: The Magnuson Stevens Fishery Conservation and Management Act, 16 U.S.C. 1801 et seq., as amended by the Sustainable Fisheries Act, Public Law 104 297, provided for the establishment of an AP to assist in the collection and evaluation of information relevant to the development of any Fishery Management Plan (FMP) or FMP amendment for HMS. NMFS consults with and considers the comments and views of AP members when preparing and implementing FMPs or FMP amendments for Atlantic tunas, swordfish, billfish, and sharks.

The AP has previously consulted with NMFS on: Amendment 1 to the Billfish FMP (April 1999), the HMS FMP (April 1999), Amendment 1 to the HMS FMP (December 2003), the Consolidated HMS FMP (October 2006), and Amendments 1, 2, and 3 to the Consolidated HMS FMP (April and October 2008, February and September 2009, and May 2010). At the September 2010 AP meeting, NMFS plans to discuss the current management issues related to the Atlantic bluefin tuna, shark, and swordfish fisheries, as well as options for vessel monitoring systems and recreational reporting.

Special Accommodations

This meeting is physically accessible to people with disabilities. Requests for sign language interpretation or other auxiliary aids should be directed to Brian Parker at (301) 713 2347 at least 7 days prior to the meeting.

Dated: July 22, 2010.
Carrie Selberg,
Acting Director, Office of Sustainable Fisheries, National Marine Fisheries Service.

[FR Doc. 2010-18393 Filed 7-26-10; 8:45 am]

BILLING CODE 3510-22-S